INTERNATIONAL TRADE COMMISSION

[USITC SE-19-025]

Sunshine Act Meetings

Agency Holding the Meeting: United States International Trade Commission.

TIME AND DATE: July 10, 2019 at 11:00 a.m.

PLACE: Room 101, 500 E Street SW, Washington, DC 20436, Telephone: (202) 205-2000.

STATUS: Open to the public.

MATTERS TO BE CONSIDERED:

1. Agendas for future meetings: None.

2. Minutes.

3. Ratification List.

4. Vote on Inv. Nos. 701-TA-453 and 731-TA-1136-1137 (Second Review) (Sodium Nitrite from China and Germany). The Commission is currently scheduled to complete and file its determinations and views of the Commission by July 31, 2019.

5. Outstanding action jackets: None.

The Commission is holding the meeting under the Government in the Sunshine Act, 5 U.S.C. 552(b). In accordance with Commission policy, subject matter listed above, not disposed of at the scheduled meeting, may be carried over to the agenda of the following meeting.

By order of the Commission.
Issued: June 26, 2019.
Lisa Barton,
Secretary to the Commission.

[FR Doc. 2019-14170 Filed 6-28-19; 11:15 am]

BILLING CODE 7020-02-P